DEPARTMENT OF THE INTERIOR

Bureau of Reclamation

Yakima River Basin Water Storage Feasibility Study; Benton, Yakima, and Kittitas Counties, WashingtonINT-DES 08-03

AGENCY: Bureau of Reclamation, Interior.

ACTION: Notice of Availability and Public Hearings on the Draft Planning Report and Environmental Impact Statement.

SUMMARY: Pursuant to section 102(2)(C) of the National Environmental Policy Act (NEPA) of 1969, as amended, the Bureau of Reclamation (Reclamation) has prepared a combined Draft Planning Report and Environmental Impact Statement (Draft PR/EIS) on the Yakima River Basin Water Storage Feasibility Study (Storage Study). The Washington Department of Ecology (Ecology) is a joint lead with Reclamation in the preparation of the Draft PR/EIS which will also be used to comply with requirements of the Washington State Environmental Policy Act (SEPA). The cooperating agencies on this study are Yakima County; the U.S. Department of the Army: Yakima Training Center and the Seattle District of the U.S. Corps of Engineers; and the U.S. Department of Energy: Office of River Protection.

The purpose of the Yakima River Basin Water Storage Feasibility Study is to evaluate alternatives that would create additional water storage for the Yakima River basin and assess their potential to supply the water needed for ecosystem aquatic habitat, basin-wide agriculture, and municipal demands. The need for the study is based on the existing finite water supply and limited storage capability of the Yakima River basin in low water years. This finite supply and limited storage capacity do not meet the water supply demands in all years and result in significant adverse impact to the Yakima River basin's economy, which is agriculture-based, and to the basin's aquatic habitat, specifically, anadromous fisheries. The study seeks to identify means of increasing water storage available, including storage of Columbia River water, for purposes of improving anadromous fish habitat and meeting irrigation and municipal water supply needs.

DATES: Meetings will be held on 2 days in two locations:

• Wednesday, February 27, 2008, in Yakima, Washington.

• Thursday, February 28, 2008, in Kennewick, Washington.

On each day, an informational open house will occur from 1 to 2 p.m., followed by a public hearing to receive oral comments from 2 to 4 p.m. Another open house will occur from 6 to 7 p.m., followed by another public hearing from 7 to 9 p.m.

Requests for special assistance at the meetings should be submitted by February 15, 2008 (see Supplementary Information section, Special Assistance for Public Meetings).

Written comments on the draft PR/EIS will be accepted through March 31, 2008.

ADDRESSES: Meetings will be held at the following locations:

• Yakima, Washington: Yakima Convention Center, 10 North 8th St.

• Kennewick, Washington: Three Rivers Convention Center, 7016 W. Grandridge Blvd.

The meeting facilities are physically accessible to people with disabilities.

Written comments on the Draft PR/EIS should be addressed to the Bureau of Reclamation, Upper Columbia Area Office, Attention: David Kaumheimer, Environmental Programs Manager, 1917 Marsh Road, Yakima, Washington 98901-2058. Comments may also be submitted electronically to storagestudy@pn.usbr.gov. Requests for paper or CD copies of the Draft PR/EIS may be made to (509) 575-5848, ext. 612.

See Supplementary Information section for locations where copies of the Draft PR/EIS are available for public review.

Information on this project can also be found at http://www.usbr.gov/pn/programs/storage_study/index.html.

FOR FURTHER INFORMATION CONTACT: Contact David Kaumheimer, Environmental Programs Manager, Telephone: (509) 575-5848, extension 232.

SUPPLEMENTARY INFORMATION:

Hearing Process Information

Requests to make oral comments at the public hearings may be made at each hearing. In order to ensure that all those interested in providing oral comments have an opportunity to do so, oral comments at the hearings will be limited to 5 minutes. Comments will be recorded by a court reporter. Speakers will be called in the order indicated on the sign in list for speaking. Speakers not present when called will be recalled at the end of the scheduled speakers. Speakers may provide written versions of their oral comments, or other additional written comments, for the hearing record. Longer comments should be summarized at the public hearing and submitted in writing either at the public hearing or identified as hearing comments and mailed within 7 days of the hearing date to Mr. Dave Kaumheimer as indicated under the Addresses section.

Background Information

Reclamation has undertaken this study to explore ways to augment water supplies in the Yakima River Basin for the benefit of anadromous fish, irrigated agriculture, and municipal water supply under the authority of Public Law 108-7, Title II, Section 214 which was passed by Congress on February 20, 2003. Public Law 108-7 states:

The Secretary of the Interior, acting through the Bureau of Reclamation, shall conduct a feasibility study of options for additional water storage in the Yakima River Basin, Washington, with emphasis on the feasibility of storage of Columbia River water in the potential Black Rock Reservoir and the benefit of additional storage to endangered and threatened fish, irrigated agriculture, and municipal water supply. There are authorized to be appropriated such sums as may be necessary to carry out this Act.

Ecology is a joint lead with Reclamation in the preparation of this Draft PR/EIS which also complies with SEPA. In addition to the No Action Alternative, this jointly prepared Draft PR/EIS provides NEPA coverage for three storage alternatives, referred to as the Joint Alternatives, which Reclamation and Ecology are considering as part of the Storage Study. These include: Black Rock Dam, Wymer Dam and Reservoir, and Wymer Dam plus Yakima River Pump Exchange Alternatives.

In addition to the storage alternatives being considered under feasibility study authority, this EIS provides SEPA coverage for three additional alternatives, referred to as the State Alternatives, which Ecology is considering. These include: Enhanced Water Conservation, Market Based Reallocation of Water Resources, and Groundwater Storage Alternatives.

Locations Where Copies of the Draft PR/EIS Are Available for Public Review

• Bureau of Reclamation, U.S. Department of the Interior, Room 7455, 1849 C Street, NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

• Kennewick City Library, 1620 S. Union St., Kennewick, Washington 99338.

• Pasco City Library, 1320 W. Hopkins, Pasco, Washington 99301.

• Richland City Library, 955 Northgate Drive, Richland, Washington 99352.

• Yakima Valley Regional Library, 102 N. 3 rd St., Yakima, Washington 98901.

• Washington State Library, 6880 Capitol Blvd., SW, Olympia, Washington 98504.

Special Assistance for Public Meetings

TTY users may dial 711 to obtain a toll free TTY relay.

Requests for sign language interpretation for the hearing impaired should be submitted to David Kaumheimer at (509) 575-5848, extension 232, or mailed to him at the address in the Addresses section.

Spanish language interpretation requests should be made to John Evans at (509) 575-5848. Si necesita interprete para Español, por favor llame John Evans a (509) 575-5848.

Public Disclosure

If you wish to comment on this draft PR/EIS, you may mail us your comments as indicated under the Addresses section. Before including your name, address, phone number, e-mail address, or other personal identifying information in your comment, you should be aware that your entire comment, including your personal identifying information, may be made publicly available at any time. While you can ask us in your comment to withhold your personal identifying information from public review, we cannot guarantee that we will be able to do so.

J. William McDonald,
Regional Director, Pacific Northwest Region.

[FR Doc. E8-1880 Filed 1-31-08; 8:45 am]

BILLING CODE 4310-MN-P